ENVIRONMENTAL PROTECTION AGENCY

[FRL-10635-01-R9]

Clean Air Act Operating Permit; Apache County, Arizona; Petition for Objection to State Operating Permit for Springerville Generating Station

AGENCY: Environmental Protection Agency (EPA).

ACTION: Notice of final action.

SUMMARY: The Environmental Protection Agency (EPA) Administrator signed an Order, dated January 19, 2023, denying the petition to object to a Clean Air Act (CAA) title V operating permit issued to the Tuscon Electric Power Company Springerville Generating Station located in Apache County, Arizona. The Order responds to a June 20, 2022 petition submitted by the Sierra Club and the National Parks Conservation Association (the “Petitioners”) requesting that the EPA object to the final operating permit No. 65614 issued by the Arizona Department of Environmental Quality (ADEQ). The Order constitutes a final action on the petition addressed therein.

DATES: Pursuant to section 307(b)(1) of the Clean Air Act, 42 U.S.C. 7607(b)(1), judicial review of this final agency action, to the extent it is available, may be sought by filing a petition for review in the United States Court of Appeals for the Ninth Circuit within 60 days of March 3, 2023.

ADDRESSES: Copies of the petitions and Orders are available at https://www.epa.gov/title-v-operating-permits/title-v-petition-database. For additional information, please contact the person identified in the FOR FURTHER INFORMATION CONTACT section.

FOR FURTHER INFORMATION CONTACT: Lisa Beckham, EPA Region IX, 75 Hawthorne Street (AIR-3-1), San Francisco, California 94105. By phone at (415) 972-3811, or by email at beckham.lisa@epa.gov.

SUPPLEMENTARY INFORMATION: The CAA affords the EPA a 45-day period to review and, as appropriate, the authority to object to operating permits proposed by state and local permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the permitting authority, unless the petitioner demonstrates that it was impracticable to raise these issues during the comment period or the grounds for the issues arose after the comment period closed.

On June 20, 2022, the Petitioners submitted a petition to the EPA pursuant to section 505(b)(2) of the CAA and 40 CFR 70.8(d). The petition requested that the EPA object to significant permit revision No. 91093 to the CAA title V operating permit issued by the ADEQ for Tuscon Electric Power Company Springerville Generating Station (Permit No. 65614) in Apache County, Arizona. On January 19, 2023, the Administrator issued an Order denying the petition.

The Order provides additional information, including a summary of the claims raised and the EPA's bases for denying the claims raised by the Petitioners. Please see the ADDRESSES section above to access a copy of the Order.

Dated: February 23, 2023.
Martha Guzman Aceves,
Regional Administrator, Region IX.

[FR Doc. 2023-04391 Filed 3-2-23; 8:45 am]

BILLING CODE 6560-50-P